DEPARTMENT OF THE TREASURY

Alcohol and Tobacco Tax and Trade Bureau

Correction to Proposed Information Collections; Comment Request Notice

AGENCY: Alcohol and Tobacco Tax and Trade Bureau (TTB), Treasury.

ACTION: Notice and request for comments; correction.

Correction

In notice document E7-17877, published in the issue of Tuesday, September 11, 2007, at 72 FR 51904-51905, make the following correction:

On page 51905, in the fourth paragraph (titled “Current Actions:”), in the third sentence, the phrase “the tobacco manufacturer” should read “the brewer”.

Dated: September 13, 2007.
Francis W. Foote,
Director, Regulations and Rulings Division.

[FR Doc. E7-18509 Filed 9-19-07; 8:45 am]

BILLING CODE 4810-31-P